DEPARTMENT OF JUSTICE

Antitrust Division

Notice Pursuant to the National Cooperative Research and Production Act of 1993; Telemanagement Forum

Notice is hereby given that, on October 3, 2014, pursuant to Section 6(a) of the National Cooperative Research and Production Act of 1993, 15 U.S.C. 4301 et seq. (“the Act”), Telemanagement Forum (“The Forum”) has filed written notifications simultaneously with the Attorney General and the Federal Trade Commission disclosing changes in its membership. The notifications were filed for the purpose of extending the Act's provisions limiting the recovery of antitrust plaintiffs to actual damages under specified circumstances. Specifically, the following parties have been added as members to this venture: Telecom, Giza, EGYPT; AISSI TECH Ltd., Moulineaux, FRANCE; OPT Nouvelle Calédonie, New Caledonia, FRANCE; Righteous Technologies, Andhra Pradesh, INDIA; Persistent Systems Ltd., Pune, INDIA; Mastercom TechServices Pvt Ltd., Karnataka, INDIA; TEO LT, AB, Vilnius, LITHUANIA; Telenor Montenegro, Podgorica, MONTENEGRO; Urbatech Group FZE, Casablanca, MOROCCO; Northpower Fibre, Whangarei, NEW ZEALAND; one2tribe Sp. z o.o., Warsaw, POLAND; NOS Comunicações, Lisboa, PORTUGAL; SATEC GROUP, Madrid, SPAIN; Netka System, Bangkok, THAILAND; Jastorrie.com, Maidenhead, UNITED KINGDOM; BearingPoint, London, UNITED KINGDOM; Kaiser Permanente, Pleasanton, CA; PCCW Global, Herndon, VA; Fulcrum Technologies, Inc., Seattle, WA; Velocity, San Francisco, CA; Tonex, Inc., Richardson, TX; and Integrated Research, Inc., Denver, CO.

The following members have changed their names: Telecom Corporation of New Zealand to Spark New Zealand, Auckland, NEW ZEALAND; AsiaInfo-Linkage, Inc. to AsiaInfo, Inc., Beijing, PEOPLE'S REPUBLIC OF CHINA; National Communication System to Office of Emergency Communications, McLean, VA; Eastek Pty Ltd to ArenaCore Pty Ltd., Melbourne, AUSTRALIA; and Wataniya Telecom Maldives Private Limited to Ooredoo Maldives Pvt Ltd., Male, MALDIVES.

The following members have withdrawn as parties to this venture: Empresa De Telecomunicaciones De Bogota S.A. E.S.P, Bogota, COLOMBIA; BI Telecom, Moscow, RUSSIA; PricewaterhouseCoopers LLP, London, UNITED KINGDOM; Bakcell LTD, Baku, AZERBAIJAN; O2 Czech Republic, a.s., Prague, CZECH REPUBLIC; ServiceFrame, Dublin, IRELAND; Computaris, Essex, UNITED KINGDOM; MTN SA (Pty) Ltd., Randburg, SOUTH AFRICA; New Generation Management Consulting Pty Ltd., Johannesburg, SOUTH AFRICA; Abiba Systems Private Limited, Bangalore, INDIA; MTN Nigeria Communications Ltd., Lagos, NIGERIA; MTN Cameroon, Douala, CAMEROON; Telefonica Moviles Soluciones y Aplicaciones S.A., Santiago, CHILE; Finserve Africa Limited, Nairobi, KENYA; Phone Wave, Ontario, CANADA; ACBIS, Quebec, CANADA; Scancom Ltd., Ridge-Accra, GHANA; Gilgamesh OSS Services, Weybridge, UNITED KINGDOM; AIRCOM International Ltd., Leatherhead, UNITED KINGDOM; Comware C&C International, Corp., Taiwan, PEOPLE'S REPUBLIC OF CHINA; GFI INFORMATIQUE, Saint-Ouen, FRANCE; GTA Teleguam, Tamuning, GUAM; Perform IT Limited, Dublin, IRELAND; Telefonica Ireland, Dublin 2, IRELAND; Meditelecom, Casablanca, MOROCCO; Spark New Zealand Limited, Auckland, NEW ZEALAND; Suntech S.A., Warszawa, POLAND; Asteros Labs, Moscow, RUSSIA; Bercut LLC, Saint Petersburg, RUSSIA; O2 Slovakia, Bratislava, SLOVAK REPUBLIC; Pictor Consulting, Danderyd, SWEDEN; KIBO FZC, Ras Al Kaimah, UNITED ARAB EMIRATES; A&K Telecoms Consulting Services (UK) Limited, Slough, UNITED KINGDOM; Neul Ltd., Cambridge, UNITED KINGDOM; Aerospace Corporation, El Segundo, CA; e*Tezeract, Inc., Murrieta, CA; ETI Software Solutions, Norcross, GA; Guavus, San Mateo, CA; Johns Hopkins University Applied Physics Lab, Laurel, MD; Model Advisors, West Linn, OR; Orchestral Networks, Atherton, CA; Stamey Consulting, LLC, Seattle, WA; Valtira LLC, Minneapolis, MN; Ventraq, Inc., Mount Laurel, NJ; Bank of America, New York, NY; and ComScore, Reston, VA.

No other changes have been made in either the membership or planned activity of the group research project. Membership in this group research project remains open, and The Forum intends to file additional written notifications disclosing all changes in membership.

On October 21, 1988, The Forum filed its original notification pursuant to Section 6(a) of the Act. The Department of Justice published a notice in the Federal Register pursuant to Section 6(b) of the Act on December 8, 1988 (53 FR 49615).

The last notification was filed with the Department on September 16, 2014. A notice was published in the Federal Register pursuant to Section 6(b) of the Act on October 22, 2014 (79 FR 63167).

Patricia A. Brink,
Director of Civil Enforcement, Antitrust Division.

[FR Doc. 2014-26941 Filed 11-13-14; 8:45 am]

BILLING CODE P